DEPARTMENT OF ENERGY

Federal Energy Regulatory Commission

[Docket No. RP02-153-001]

Horizon Pipeline Company, L.L.C.; Notice of Proposed Changes in FERC Gas Tariff

March 5, 2002.

Take notice that on March 1, 2002, Horizon Pipeline Company, L.L.C. (Horizon) tendered for filing to become part of its pending FERC Gas Tariff, Original Volume No. 1, pro forma First Revised Sheet No. 149A. Horizon states that it also withdrew pending pro forma First Revised Sheet No. 197 Horizon states that the purpose of this filing is to modify its Order No. 637 compliance filing based on customer's comments.

Horizon states that copies of the filing are being mailed to interested state commissions and all parties set out on the Commission's official service lists in Docket Nos. RP02-153 and CP00-129, et al.

Any person desiring to protest said filing should file a protest with the Federal Energy Regulatory Commission, 888 First Street, NE., Washington, DC 20426, in accordance with Section 385.211 of the Commission's rules and regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5728 Filed 3-8-02; 8:45 am]

BILLING CODE 6717-01-P